DEPARTMENT OF COMMERCE

National Oceanic and Atmospheric Administration

[Docket No.000411102-0102-01; I.D. 030800B]

RIN 0648-ZA85

Financial Assistance for Community-Based Habitat Restoration Projects

AGENCY: National Marine Fisheries Service (NMFS), National Oceanic and Atmospheric Administration (NOAA), Commerce.

ACTION: Notice of availability of funds.

SUMMARY: NMFS announces that funding will be available to implement grass-roots restoration projects to restore fish habitats under the NOAA Community-Based Restoration Program (CRP or Program). NMFS issues this document describing the conditions under which applications (project proposals) will be accepted under the CRP and the manner in which applications will be selected for funding.

The CRP is a national effort to encourage partnerships with Federal agencies, states, local governments, non-governmental and non-profit organizations, businesses, industry, schools, colleges and universities to carry out locally important habitat restorations to benefit living marine resources. The CRP assists eligible applicants in carrying out on-the-ground habitat restoration projects that address important fishery habitat issues within communities and involve local citizens in marine, estuarine, and anadromous fish habitat restoration activities.

DATES: Applications for funding under the CRP will be accepted upon publication of this notice in the Federal Register and must be received by 5 p.m. (eastern daylight savings time) on June 9, 2000. Applications received after that time will not be considered for funding. No facsimile applications will be accepted.

ADDRESSES: Send applications to Director, NOAA Restoration Center, National Marine Fisheries Service, 1315 East West Highway (F/HC3), Silver Spring, MD 20910-3282; ATTN: CRP Applications.

See SUPPLEMENTARY INFORMATION section under Electronic Access for additional information on the Program and for application form information.

FOR FURTHER INFORMATION CONTACT: Christopher D. Doley, (301) 713-0174, or by e-mail at Chris.Doley@noaa.gov.

SUPPLEMENTARY INFORMATION:

I. Authority

The Secretary of Commerce is authorized under the Fish and Wildlife Coordination Act of 1956, 16 U.S.C. 661-666, to provide grants or cooperative agreements for fisheries habitat restoration.

II. Catalogue of Federal Domestic Assistance

This Program is described in the “Catalogue of Federal Domestic Assistance,” under program number 11.463, Habitat Conservation.

III. Program Description

The CRP, a competitive Federal assistance program, promotes strong partnerships to fund grass-roots, community-based activities that restore habitat and develop stewardship and a conservation ethic for NOAA's trust resources. NOAA's trust resources are living marine resources that include: commercial and recreational fishery resources; anadromous species (fish, such as salmon and striped bass, that spawn in freshwater and then migrate to the sea); endangered and threatened marine species and their habitats; marine mammals; marshes, mangroves, sea grass beds, coral reefs, and other coastal habitats; and all resources associated with National Marine Sanctuaries and National Estuarine Research Reserves.

The Program's objective is to bring together citizen groups, public and nonprofit organizations, industry, corporations and businesses, youth conservation corps, students, landowners, and local government, state, and Federal agencies to implement habitat restoration projects to benefit NOAA trust resources. Partnerships are developed at the national and local level to contribute funding, land, technical assistance, workforce support or other in-kind services to promote citizen participation in the improvement of locally important living marine resources.

The Program recognizes the significant role that communities play in habitat restoration and protection and acknowledges that habitat restoration is often best supported and implemented at a community level. Projects are successful because they have significant community support and depend upon citizens' hands-on involvement. The role of NOAA in the Program is to strengthen the development and implementation of sound restoration projects.

For more information on the Program, see Electronic Access.

IV. Funding Availability

This solicitation announces that funding of approximately $500,000 will be available in FY 2000. There is no guarantee that sufficient funds will be available to make awards for all approved projects. Publication of this notice does not obligate NOAA to award any specific project or obligate all or any parts of the available funds.

V. Matching Requirements

The focus of the Program is to provide seed money to leverage funds and other contributions from a broad public and private sector to implement locally important habitat restoration to benefit living marine resources. To this end, applicants are expected to demonstrate a minimum 1:1 non-Federal match for CRP funds requested to complete the proposed project. In unusual circumstances, the NOAA Restoration Center may waive the expectation of 1:1 matching funds before funding decisions are made if the project meets the following three requirements: (1) The project is judged to be an outstanding match with NOAA and NMFS Restoration Center objectives (see SUPPLEMENTARY INFORMATION section under Eligible Restoration Activities); (2) the need to carry out the project in a timely fashion to benefit NOAA trust resources is critical; and (3) the project sponsor has attempted to obtain matching funds but was unable to come up with the full 1:1 minimum match expected, and can provide satisfactory supporting documentation. NOAA strongly encourages applicants to leverage as much investment as possible. The degree to which cost-sharing exceeds the minimum level may be taken into account in the final selection of projects to be funded (see Evaluation Criteria section).

The match can come from a variety of public and private sources and can include in-kind goods and services. Federal funds may not be considered matching funds. Applicants are permitted to combine contributions from additional project partners in order to meet the 1:1 expected match for the project. Applicants whose proposals are selected for funding will be bound by the percentage of cost sharing reflected in the award document signed by the Grants Officer.

VI. Type of Funding Instrument

The Restoration Center envisions funding projects in this solicitation through cooperative agreements and grants. In most cases, the cooperative agreement is likely to be the preferred and most appropriate funding instrument. A cooperative agreement is a legal instrument reflecting a relationship between NOAA and a recipient whenever (1) the principal purpose of the relationship is to provide financial assistance to the recipient and (2) substantial involvement in the project by NOAA is anticipated during performance of the contemplated activity. NOAA is substantially involved in developing locally driven habitat restoration projects, conducting cooperative activities with recipients, and evaluating the performance of projects for their effectiveness in meeting stated restoration goals for improving fisheries habitat. A grant is similar to a cooperative agreement, except that, in the case of grants, substantial involvement by NOAA is not anticipated during the performance of the contemplated activity.

VII. Eligible Applicants

Any state, local or tribal government, regional governmental body, public or private agency or organization may sponsor a project for funding consideration. Federal agencies are not eligible to apply for funding; however, they are encouraged to work in partnership with state agencies, municipalities, and community groups. Successful applicants will be those whose projects demonstrate that significant, direct benefits are expected to living marine resources as a result of activities by supportive, involved communities. The Program operates under statutory authority that precludes individuals from applying.

Pursuant to Executive Orders 12876, 12900, and 13021, the Department of Commerce National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation's capacity to provide high-quality education, and to increase opportunities for MSIs to participate in and benefit from Federal financial assistance programs. DOC/NOAA encourages all applicants to include meaningful participation of MSIs.

VIII. Award Period

Generally, the Program will make awards only to those projects where requested funding will be used to complete proposed restoration activities, with the exception of post-construction monitoring, within a period of 18 months from the time awards are distributed. If an application is selected for funding, NMFS has no obligation to provide any additional prospective funding in connection with that award in subsequent years. Any subsequent proposal to continue work on an existing project must be submitted to the competitive process for consideration and will not receive preferential treatment. Renewal of an award to increase funding or to extend the period of performance is at the total discretion of the Restoration Center Director.

IX. Electronic Access

Information on the Program, including partnerships and projects that have been funded to date, can be found on the world wide web at http://www.nmfs.gov/habitat/restoration. Application forms are available over the world wide web at http://www.rdc.noaa.gov/ grants/index.html. Application forms can also be obtained from the NOAA Restoration Center (see ADDRESSES).

X. Application Process

Applications for project funding under this program must be complete and in accordance with instructions in the standard NOAA Grants Application Package. Each application must include all specified sections as listed in the Application Package, including, but not limited to, the following: cover sheet (an applicant must use OMB Standard Form 424 and 424B as the cover sheet for each project); budget (SF 424A and budget justification), and narrative project description (statement of work). Budgets must include a detailed breakdown by category of cost estimates as they relate to specific aspects of the project, with appropriate justification for both the Federal and non-Federal shares.

The narrative project description should be limited to five pages in length and should give a clear presentation of the proposed work. It should identify the problems the project will address and describe short-term and long-term objectives and goals, the methods for carrying out and monitoring the project, and its relevance to enhancing habitat to benefit living marine resources. The need for assistance should be demonstrated, and participants (project partners) other than the applicant should be identified. The project narrative should also provide an overview of the organization to establish the qualifications of the applicant seeking funds and identify proposed project staff, and identify the geographic location where the project will occur. Applicants should not assume prior knowledge on the part of NOAA as to the relative merits of the project described in the application.

Applications should not be bound in any manner and should be printed on one side only. All incomplete applications will be returned to the applicant. Three copies (one signed original and two signed copies) of each application are required and must be submitted to the NOAA Restoration Center (see ADDRESSES). Applicants may opt to submit additional copies (seven are needed for reviewing purposes) if it doesn't cause a financial hardship.

XI. Indirect Costs

The budget may include an amount for indirect costs if the applicant has an established indirect cost rate with the Federal government. The total dollar amount of indirect costs proposed in an application under this program must not exceed the indirect cost rate negotiated and approved by a cognizant Federal agency prior to the proposed effective date of the award. However, the Federal share of the indirect costs may not exceed 25 percent of the proposed request for Federal support. Applicants with indirect cost rates above 25 percent may use the amount above the 25-percent level as part of the non-Federal share. A copy of the approved, currently negotiated Indirect Cost Agreement with the Federal Government must be included in the application. If the applicant does not have a current negotiated rate, and plans to seek reimbursement for indirect costs, documentation necessary to establish a rate must be submitted within 90 days of the award.

XII. Eligible Restoration Activities

NOAA is interested in funding projects that will result in on-the-ground restoration of habitat to benefit living marine resources, including anadromous fish species. Habitat restoration is defined here as activities that directly result in the reestablishment of formerly existing or re-creation of functional and productive, marine, estuarine, or coastal river biological systems. Restoration may include, but is not limited to, the improvement of coastal wetland tidal exchange or reestablishment of historic hydrology; dam or berm removal; improvement or reestablishment of fish passageway; natural or artificial reef/substrate/habitat creation; the establishment of riparian buffer zones and improvement of freshwater habitat features that support anadromous fishes; the planting of native coastal wetland and submerged aquatic vegetation; and the improvement of feeding, spawning and growth areas essential to marine or anadromous fish.

In general, proposed projects should clearly demonstrate anticipated benefits to habitats, such as salt marshes, seagrass beds, coral reefs, mangrove forests and riparian habitat near rivers, streams and creeks used or formerly used by anadromous fish. To protect the Federal investment, projects on private lands need to provide assurance that the project will be maintained for its intended purpose for the life of the project. Projects on permanently protected lands may be given priority consideration.

Projects must involve significant community support through an educational and/or volunteer component tied to the restoration activities. Implementation of on-the-ground habitat restoration projects must involve community outreach and monitoring to assess project success, and may involve limited pre-implementation activities, such as engineering and design and short-term baseline studies. Proposals emphasizing a singular component, such as only outreach, monitoring, or program coordination are discouraged, as are requests primarily for administration, salaries, overhead and travel.

Although NOAA recognizes that water quality issues may impact habitat restoration efforts, this initiative is intended to fund physical habitat restoration projects rather than direct water quality improvement measures, such as wastewater treatment plant upgrades or combined sewer outfall corrections. Similarly, the following restoration projects will not be eligible for funding: (1) Activities that constitute legally required mitigation for the adverse effects of an activity regulated or otherwise governed by state or Federal law; (2) activities that constitute restoration for natural resource damages under Federal or state law, and (3) activities that are required by a separate consent decree, court order, statute or regulation. Funds from this program may be sought to enhance restoration activities beyond the scope legally required by these activities.

XIII. Examples of Previously Funded Projects

The following examples are community-based restoration projects that have been funded with assistance from the Restoration Center. These examples are only illustrative and are not intended to limit the scope of future proposals in any way.

Submerged Aquatic Vegetation Restoration

Funding was provided to evaluate the feasibility of using volunteer divers to restore seagrass. A protocol was developed to train volunteers in water quality monitoring and seagrass transplantation techniques.

Fish Ladder Construction

An impediment to fish passage was corrected through the design and construction of a step-pool fish ladder, which now allows native steelhead trout to reach their historical spawning grounds.

Invasive Plant Removal

Funding was provided to a coalition of volunteer groups called “Pepperbusters” who worked to remove exotic Brazilian pepper plants and replant native shoreline vegetation.

Salt Marsh Restoration

Tidal flushing was restored to 20 acres of salt marsh by replacing an undersized culvert to increase the mean high water level in the restricted portion of the marsh.

Oyster Reef Restoration

Funding was provided to increase oyster reef habitat by reconstructing historical reefs and seeding them with hatchery-produced seed oysters grown in floating cages by students.

Kelp Forest Restoration

Funding was provided to train community dive groups in kelp reforestation activities, including the preparation, planting and maintenance of kelp sites, documentation of growth patterns and changes in marine life attracted to the newly planted kelp areas.

Wetland Plant Nursery

Funding was provided to start an innovative wetland nursery program in local high schools, where science and ecology classes build wetland nurseries on-campus to grow salt marsh grasses for local restoration efforts.

Riparian Habitat Restoration

Funding was provided to train youth corps in the use of biorestoration and stabilization techniques to restore eroding riverbanks and improve habitat for salmon smolt and other fish species.

Anadromous Fish Habitat Restoration

Highly functional salmonid and wildlife habitat was restored with the cooperation of private landowners by opening silted enclosures along a slough to provide refuge for juvenile salmonids during the winter flood flows.

XIV. Project Selection Process

Applications will be screened to determine if applicants meet the minimum Program requirements as described in this notice. Eligible restoration projects will undergo a technical review, ranking, and selection process. As appropriate during this process, the NOAA Restoration Center will solicit individual technical evaluations of each project and may consult with other NOAA offices, the NOAA Grants Management Division, the U.S. Department of Commerce, the Regional Fishery Management Councils, other Federal and state agencies, such as state coastal management agencies and state fish and wildlife agencies, and private and public sector subject experts or such other interested parties as potential partners who have knowledge of a specific project or its subject matter.

Projects will be ranked by individual reviewers according to the criteria and weights described in this solicitation. The individual evaluation comments, and composite project ranks of reviewers will be presented to the Director of the NOAA Restoration Center. The Director, in consultation with Program staff, may take into account the following program priorities: (a) geographic location and habitat type to be restored, (b) diversity of applicants, (c) degree of duplication of proposed activities with other projects that are currently funded or approved for funding by NOAA and other Federal agencies; and (d) availability of remaining funds. As a result, awards may not necessarily be made to the highest scored proposals. In addition, the Director, in consultation with Program staff, will select the proposals to be funded, determine which components of the selected projects will be funded, and determine the amount of funds available for each proposal.

Applicants may be asked to modify objectives, work plans, or budgets prior to final approval of an award. The exact amount of funds awarded, the final scope of activities, the project duration, and specific NOAA cooperative involvement with the activities of each project will be determined in pre-award negotiations among the applicant, the NOAA Grants Office, and the NOAA Program staff. Projects should not be initiated in expectation of Federal funding until a notice of award document is received from the NOAA Grants Office.

Successful applicants generally will be selected approximately 90 days after the date of publication in the Federal Register of this notice. The earliest date for awards will be approximately 150 days after the date of publication in the Federal Register of this notice, when all NOAA/applicant negotiations of cooperative activities have been completed. Applicants should consider this selection and processing time in developing requested start dates for their applications.

XV. Evaluation Criteria

Reviewers will assign scores to proposals ranging from 0 (unacceptable) to 100 (excellent) points based on the following four evaluation criteria and respective weights:

(1) Benefit to living marine resources (25 percent)

NOAA is interested in funding projects where benefits to living marine resources can be realized. Therefore, NOAA will evaluate proposals based on the potential of the restoration project to restore, protect, conserve, and create habitats and ecosystems vital to self-sustaining populations of living marine resources under NOAA Fisheries stewardship. Locations where restoration projects may have high potential to benefit NOAA trust resources include areas identified as essential fish habitat (EFH) and areas within EFH identified as Habitat Areas of Particular Concern; areas identified as critical habitat for listed marine and anadromous species; areas identified as important habitat for marine mammals; areas located within National Marine Sanctuaries or National Estuarine Research Reserves; watersheds or such other areas under conservation management as special management areas under state coastal management programs; and other important commercial or recreational marine fish habitat, including degraded areas that formerly were important habitat for living marine resources.

(2) Technical Merit and Adequacy of Implementation Plan (25 percent)

Proposals will be evaluated on the technical feasibility of the project from both biological and engineering perspectives, and on the qualifications and past experience of the project leaders and/or partners in designing, implementing and effectively managing and overseeing projects. Communities and/or organizations developing their first locally driven restoration project may not be able to document past experience and, therefore, will be evaluated on the basis of their potential to effectively manage and oversee all project phases and on the availability of NOAA or other technical expertise to guide the project to a successful completion. Proposals will also be evaluated on their ability to (a) deliver the restoration objective stated in the proposal; (b) provide educational benefits; (c) demonstrate that the restoration activity will be sustainable and long-lasting; and (d) provide assurance that implementation of the project will meet all Federal and state environmental laws by obtaining or proceeding to obtain applicable permits and consultations.

(3) Community Commitment and Partnership Development (25 percent)

Proposals will be evaluated on the depth and breadth of the community's support. Projects must incorporate significant community involvement, which may include: (a) hands-on training and restoration activities undertaken by volunteer students, qualified youth conservation or service corps, or other citizens; (b) input from local entities, such as businesses, conservation organizations, Minority Serving Institutions, and others, either through in-kind goods and services (earth moving, technical expertise, easements) or cash contributions; (c) visibility within the community and demonstrated potential for public outreach; (d) cooperation with private landowners who set an example within the community for natural resource conservation; (e) support by state and local governments; (f) representation of those within the community who have an interest in or are affected by the project and seek the benefits of the restoration; (g) ability to achieve long-term stewardship for restored resources and to generate a community conservation ethic; and/or (h) demonstration by the applicant that the project is incorporated into a regional or community planning process or otherwise assure that all residents or citizens affected by the project are provided an opportunity to participate.

(4) Cost-effectiveness and Budget Justification (25 percent)

Projects will be evaluated on (a) their ability to demonstrate that a significant benefit will be generated for reasonable cost; (b) the extent of habitat and degree to which it will be restored; (c) NOAA's ability to act as a catalyst to implement the project, i.e. whether the proposed activity is more likely to occur or will occur more quickly or efficiently with NOAA involvement; (d) the percentage of funds that will be used for physical, on-the-ground restoration versus salaries, administration and overhead; and (e) the demonstration of partnership and collaboration as reflected in the budget detail. NOAA will expect cost-sharing to leverage funding and to encourage partnerships among government, industry, and academia, to address the needs of communities and to restore important fisheries habitat.

XVI. Funding Ranges

The NOAA Restoration Center anticipates that typical project awards will range from $25,000 to $75,000; NOAA will not accept proposals under $10,000 or proposals over $120,000 in this solicitation. The number of awards to be made in FY 2000 will depend on the number of eligible applications received, the amount of funds requested by applicants, and the rating and ranking of the proposals. The exact amount of funds awarded to a project will be determined in pre-award negotiations between the applicant and NOAA representatives. Funds awarded cannot necessarily pay for all the costs that the recipient might incur in the course of carrying out the project. Allowable costs are determined by reference to the Office of Management and Budget Circulars A-122, “Cost Principles for Non-profit Organizations”; A-21, “Cost Principles for Education Institutions”; and A-87, “Cost Principles for State, Local and Indian Tribal Governments.” Generally, costs that are allowable include salaries, equipment, supplies, and training, as long as these are “necessary and reasonable.” However, in order to encourage on-the-ground restoration, if funding for salaries is requested, at least 75 percent of the total salary request must be used to support staff accomplishing the restoration work.

XVII. Other Requirements

Federal Policies and Procedures

Recipients and subrecipients are subject to all Federal laws and Federal and DOC policies, regulations, and procedures application to Federal financial assistance awards.

Past Performance

Any first-time applicant for Federal grant funds under this announcement is subject to a pre-award accounting survey prior to execution of the award. Unsatisfactory performance under prior Federal awards may result in an application not being considered for funding.

Pre-award Activities

If applicants incur any costs prior to an award being made, they do so solely at their own risk of not being reimbursed by the Government. Notwithstanding any verbal or written assurance that they may have received, there is no obligation on the part of NOAA to cover pre-award costs.

No Obligation of Future Funding

If an application is selected for funding, DOC has no obligation to provide any additional future funding in connection with the award. Renewal of an award to increase funding or extend the period of performance is at the total discretion of the Restoration Center Director.

Delinquent Federal Debts

No award of Federal funds shall be made to an applicant or to its subrecipients who have any outstanding delinquent Federal debt or fine until-

1. The delinquent account is paid in full;

2. A negotiated repayment schedule is established, and, at least, one payment is received; or

3. Other arrangements satisfactory to Commerce are made.

Name Check Review

All non-profit and for-profit applicants are subject to a name check review process. Name checks are intended to reveal whether key individuals associated with the applicant have been convicted of, or are presently facing, such criminal charges as fraud, theft, perjury, or other matters that significantly reflect on the applicant's management, honesty, or financial integrity. Potential non-profit and for-profit recipients may also be subject to reviews of Dun and Bradstreet data or other similar credit checks.

Primary Applicant Certifications

All primary applicants must submit a completed Form CD 511, “Certifications Regarding Debarment, Suspension and Other Responsibility Matters; Drug-Free Workplace Requirements and Lobbying,” and the following explanations are hereby provided:

1. Nonprocurement debarment and suspension. Prospective participants (as defined at 15 CFR 26.105) are subject to 15 CFR part 26, “Nonprocurement Debarment and Suspension,” and the related section of the certification form prescribed earlier applies;

2. Drug-free workplace. Grantees (as defined at 15 CFR 26.605) are subject to 15 CFR 26, subpart F, “Government-side Requirements for Drug-Free Workplace (Grants),” and the related section of the certification form prescribed earlier applies; also please enter the Principal Place of Performance, that is, where the work will be done.

3. Anti-Lobbying. Persons (as defined at 15 CFR 28.105) are subject to the lobbying provision of 31 U.S.C. 1352, “Limitation on use of appropriated funds to influence certain Federal contracting and financial transactions,” and the lobbying section of the certification form prescribed above applies to applications/bids for grants, cooperative agreements, contracts for more than $100,000, and loans and loan guarantees for more than $150,000.

4. Anti-Lobbying Disclosures. Any applicant who has paid or will pay for lobbying using any funds must submit a Form SF-LLL, “Disclosure Form to Report Lobbying,” as required under 15 CFR part 28, appendix B.

Lower Tier Certifications

Recipients shall require applicants/bidders for subgrants, contracts, subcontracts, or other lower tier covered transactions at any tier under the award to submit, if applicable, a completed Form CD 512, “Certifications Regarding Debarment, Suspension, Ineligibility and Voluntary Exclusion-Lower Tier Covered Transactions and Lobbying” and disclosure Form SF-LLL submitted by any tier recipient or subrecipient should be submitted to DOC in accordance with the instructions contained in the award document.

False Statements

A false statement on the application is grounds for denial or termination of funds and grounds for possible punishment by a fine or imprisonment as provided in 18 U.S.C. 1001.

Intergovernmental Review

Applications under this program are subject to the provisions of E.O. 12372, “Intergovernmental Review of Federal Programs.”

American-made Equipment and Products

Applicants are hereby notified that they are encouraged, to the extent feasible, to purchase American-made equipment and products with funding provided under this program.

Classification

Prior notice and an opportunity for public comments are not required by the Administrative Procedure Act or by any other law for this notice concerning grants, benefits, and contracts. Furthermore, a regulatory flexibility analysis is not required for the purposes of the Regulatory Flexibility Act.

This action has been determined to be “not significant” for purposes of E.O. 12866.

This notice contains collections of information subject to the Paperwork Reduction Act, which have been approved by OMB under OMB control numbers 0348-0040, 0348-0043, 0348-0044, and 0348-0046.

Notwithstanding any other provision of the law, no person is required to respond to, nor shall any person be subject to a collection of information subject to the requirements of the Paperwork Reduction Act unless that collection of information displays a currently valid OMB control number.

Dated: May 1, 2000.
Penelope D. Dalton,
Assistant Administrator for Fisheries, National Marine Fisheries Service.

[FR Doc. 00-11284 Filed 5-4-00; 8:45 am]

BILLING CODE 3510-22-F